FEDERAL RESERVE SYSTEM

Notice of Proposals to Engage in Permissible Nonbanking Activities or to Acquire Companies that are Engaged in Permissible Nonbanking Activities; Correction

This notice corrects a notice (FR Doc. 04-16821) published on page 44007 of the issue for Friday, July 23, 2004.

Under the Federal Reserve Bank of San Francisco heading, the entry for First National Bank Holding Company Scottsdale, Arizona, is revised to read as follows:

A. Federal Reserve Bank of San Francisco (Tracy Basinger, Director, Regional and Community Bank Group) 101 Market Street, San Francisco, California 94105-1579:

1. First National Bank Holding Company, Scottsdale, Arizona; to acquire First Capital Bank of New Mexico, Albuquerque, New Mexico, and thereby engage in operating a savings and loan association, pursuant to section 225.28(b)(4)(ii) of Regulation Y.

Comments on this application must be received by August 17, 2004.

Board of Governors of the Federal Reserve System, July 26, 2004.
Robert deV. Frierson,
Deputy Secretary of the Board.

[FR Doc. 04-17336 Filed 7-29-04; 8:45 am]

BILLING CODE 6210-01-S